DEPARTMENT OF ENERGY

Federal Energy Regulatory Commission

[Docket No. RP02-96-000]

Questar Pipeline Company; Notice of Tariff Filing

December 6, 2001.

Take notice that on November 30, 2001, Questar Pipeline Company tendered for filing as part of its FERC Gas Tariff, First Revised Volume No. 1, Twenty-Third Revised Sheet No. 5 and Original Volume No. 3, Thirty-First Revised Sheet No. 8, to be effective January 1, 2002.

Questar states that the tendered tariff sheets show a revised Fuel Gas Reimbursement Percentage (FGRP) of 1.6%, replacing the currently effective 0.8% for tracking fuel-use and lost and unaccounted-for gas. The difference of 0.8% is to reflect the increase in fuel, lost and unaccounted-for gas from the current FGRP rate of 1.3% to 1.5% for the prospective 12 months ending December 31, 2001, as well as an increase from −0.5% to 0.1% amortization for fuel under recovered in the 12 month period ended September 30, 2001.

Questar states that the revised FGRP is filed pursuant to Section 12.14 of the General Terms and Conditions of Part 1 of Questar's tariff, First Revised Volume No. 1.

Questar states that a copy of this filing has been served upon its customers, the Public Service Commission of Utah and the Public Service Commission of Wyoming.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30681 Filed 12-11-01; 8:45 am]

BILLING CODE 6717-01-P